DEPARTMENT OF THE INTERIOR

Bureau of Land Management

[UT-910-04-1040-PH-24-1A]

Notice of Resource Advisory Council Meeting

AGENCY: Bureau of Land Management, Department of Interior.

ACTION: Notice of Utah Resource Advisory Council (RAC) meeting.

SUMMARY: In accordance with the Federal Land Policy and Management Act (FLPMA) and the Federal Advisory Committee Act of 1972 (FACA), the U.S. Department of the Interior, Bureau of Land Management (BLM) Utah Resource Advisory Council (RAC) will meet as indicated below.

DATES: The Utah Resource Advisory Council will meet February 24, 2004, at Western Park, 302 East 200 South, Vernal, UT, beginning at 8 a.m. and concluding at 4 p.m. A public comment period will begin at 1 p.m. and conclude at 2 p.m. Written comments may be sent to the Bureau of Land Management address listed below.

FOR FURTHER INFORMATION CONTACT: Contact Sherry Foot, Special Programs Coordinator, Utah State Office, Bureau of Land Management, 324 South State Street, Salt Lake City, Utah, 84111; phone (801) 539-4195.

SUPPLEMENTARY INFORMATION: Discussion points and focus will be Vernal's Resource Management Plan process, alternatives and cooperating agency input. Other agenda topics will include an overview of Utah issues and a report from the OHV subgroup.

All meetings are open to the public; however, transportation, lodging, and meals are the responsibility of the participating public.

Dated: January 5, 2004.
Gene Terland,
Assoc. State Director.

[FR Doc. 04-543 Filed 1-9-04; 8:45 am]

BILLING CODE 4310-$$-M